INTERNATIONAL TRADE COMMISSION

[Investigation No. 337-TA-1263]

Certain Televisions, Remote Controls, and Components Thereof; Notice of Institution of Investigation

AGENCY: U.S. International Trade Commission.

ACTION: Notice.

SUMMARY: Notice is hereby given that a complaint was filed with the U.S. International Trade Commission on April 8, 2021, under section 337 of the Tariff Act of 1930, as amended, on behalf of Roku, Inc. of San Jose, California. A supplement to the complaint was filed on April 9, 2021, and an amended complaint was filed on April 27, 2021. The complaint, as supplemented and amended, alleges violations of section 337 based upon the importation into the United States, the sale for importation, and the sale within the United States after importation of certain televisions, remote controls, and components thereof by reason of infringement of one or more claims of U.S. Patent No. 8,378,875 (“the '875 patent”) and U.S. Patent No. 7,388,511 (“the '511 patent”). The amended complaint further alleges that an industry in the United States exists or is in the process of being established as required by the applicable Federal Statute. The complainant requests that the Commission institute an investigation and, after the investigation, issue a limited exclusion order and cease and desist orders.

ADDRESSES: The amended complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Katherine Hiner, Office of Docket Services, U.S. International Trade Commission, telephone (202) 205-1802.

SUPPLEMENTARY INFORMATION:

Authority: The authority for institution of this investigation is contained in section 337 of the Tariff Act of 1930, as amended, 19 U.S.C. 1337, and in section 210.10 of the Commission's Rules of Practice and Procedure, 19 CFR 210.10 (2020).

Scope of Investigation: Having considered the amended complaint, the U.S. International Trade Commission, on May 10, 2021, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-5, 8-11, and 14 of the '875 patent and claim 5 of the '511 patent; and whether an industry in the United States exists or is in the process of being established as required by subsection (a)(2) of section 337;

(2) Pursuant to section 210.10(b)(1) of the Commission's Rules of Practice and Procedure, 19 CFR 210.10(b)(1), the plain language description of the accused products or category of accused products, which defines the scope of the investigation, is “televisions, remote controls and components thereof”;

(3) For the purpose of the investigation so instituted, the following are hereby named as parties upon which this notice of investigation shall be served:

(a) The complainant is: Roku, Inc., 1155 Coleman Avenue, San Jose, CA 95110.

(b) The respondents are the following entities alleged to be in violation of section 337, and are the parties upon which the amended complaint is to be served:

Universal Electronics, Inc., 15147 N Scottsdale Road, Suite H300, Scottsdale, AZ 85254

Gemstar Technology (Qinzhou) Co. Ltd., Hedong Industrial Park, Qinzhou, Guangxi Province, 535000 China

Gemstar Technology (Yangzhou) Co. Ltd., 1 Junsheng Road Industry Park, Fanshui Industrial Zone, Baoying, Yanzhou, Jiangsu Province, 225800 China

C.G. Development Ltd., Units 902-905, 9/F, One Harbourfront, 18 Tak Fung Street, Hung Hom, Kowloon, Hong Kong

Universal Electronics BV, Colosseum 2, 7521 PT Enschede, Netherlands

UEI Brasil Controles Remotos Ltda., Avenida Torquato Tapajos, no 4010 Galpao 04, Colonia Santo Antonio, CEP:69093-018, Manaus—Amazonas—Brasil

CG México Remote Controls, S. de R.L. de C.V., Séptima No. 840-B, Parque Industrial Monterrey, Apodaca, NUEVO LEON, 66603, Mexico

LG Electronics Inc., LG Twin Tower, 128, Yeoui-daero, Yeongdeungpo-gu, Seoul, 07336, Republic of Korea

LG Electronics USA, Inc., 1000 Sylvan Avenue, Englewood Cliffs, NJ 07632

Samsung Electronics Co., Ltd., 129, Samsung-Ro, Maetan-3dong, Yeongtong-Gu, Suwon-si, Gyeonggi-do, 16677, Republic of Korea

Samsung Electronics America, Inc., 85 Challenger Road, Ridgefield Park, NJ 07660

Charter Communications, Inc., 400 Atlantic Street, Stamford, CT 06901

Charter Communications Operating, LLC, 12405 Powerscourt Drive, St. Louis, MO 63131

Spectrum Management Holding Company, LLC, 400 Atlantic Street, Stamford, CT 06901

Altice USA, Inc., One Court Square, Long Island City, NY 11101

Cablevision Systems Corp., 1111 Stewart Ave., Bethpage, NY 11714

Cequel Communications, LLC d/b/a Suddenlink Communications, One Court Square, Long Island City, NY 11101

Wideopenwest, Inc., 7887 E Belleview Ave., Ste. 1000, Englewood, CO 80111

(4) For the investigation so instituted, the Chief Administrative Law Judge, U.S. International Trade Commission, shall designate the presiding Administrative Law Judge.

The Office of Unfair Import Investigations is not a party to this investigation.

Responses to the amended complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the amended complaint and the notice of investigation. Extensions of time for submitting responses to the amended complaint and the notice of investigation will not be granted unless good cause therefor is shown.

Failure of a respondent to file a timely response to each allegation in the complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: May 10, 2021.
Lisa Barton,
Secretary to the Commission.

[FR Doc. 2021-10163 Filed 5-13-21; 8:45 am]

BILLING CODE 7020-02-P